DEPARTMENT OF ENERGY

Federal Energy Regulatory Commission

[Docket Nos. AD16-15-000; ER16-1085-000; ER16-1649-000]

Reliability Technical Conference; California Independent System Operator Corporation; California Independent System Operator Corporation; Supplemental Notice With Agenda

As announced in the Notice of Technical Conference issued on February 3, 2016, the Commission will hold a technical conference on Wednesday, June 1, 2016 from 9:30 a.m. to 5:00 p.m. to discuss policy issues related to the reliability of the Bulk-Power System. The agenda for this conference is attached. Commission members will participate in this conference.

Advanced registration is not required, but is encouraged. Attendees may register at: https://www.ferc.gov/whats-new/registration/06-01-16-form.asp.

After the close of the conference, the Commission will accept written comments regarding the matters discussed at the technical conference. Any person or entity wishing to submit written comments regarding the matters discussed at the conference should submit such comments in Docket No. AD16-15-000 on or before July 8, 2016.

Information on this event will be posted on the Calendar of Events on the Commission's Web site, www.ferc.gov, prior to the event. The conference will be transcribed. Transcripts will be available for a fee from Ace Reporting Company (202-347-3700). A free webcast of this event is also available through www.ferc.gov. Anyone with Internet access who desires to listen to this event can do so by navigating to www.ferc.gov Calendar of Events and locating this event in the Calendar. The event will contain a link to the webcast. The Capitol Connection provides technical support for webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about this conference, please contact: Sarah McKinley, Office of External Affairs, Federal Energy Regulatory Commission, 888 First Street NE., Washington, DC 20426, (202) 502-8368, sarah.mckinley@ferc.gov.

Dated: May 12, 2016.
Kimberly D. Bose,
Secretary.

[FR Doc. 2016-11892 Filed 5-19-16; 8:45 am]

BILLING CODE 6717-01-P